DEPARTMENT OF THE INTERIOR

Bureau of Indian Affairs

Indian Gaming; Notice of Approved Amended Tribal-State Compact

AGENCY: Bureau of Indian Affairs, Interior.

ACTION: Notice of Approved Amended Tribal-State Compact.

SUMMARY: Pursuant to section 11 of the Indian Gaming Regulatory Act of 1988, Pub. L. 100-497, 25 U.S.C. 2710, the Secretary of the Interior shall publish, in the Federal Register, notice of approved Tribal-State Compacts for the purpose of engaging in Class III gaming activities on Indian lands. The Assistant Secretary—Indian Affairs, Department of the Interior, through his delegated authority, has approved the Amended Compact of 1992 between the Menominee Indian Tribe of Wisconsin and the State of Wisconsin, which was executed on August 18, 2000.

DATES: This action is effective October 19, 2000.

FOR FURTHER INFORMATION CONTACT: George T. Skibine, Director, Indian Gaming Management, Bureau of Indian Affairs, Washington, DC 20240, (202) 219-4066.

Dated: October 4, 2000.
Kevin Gover,
Assistant Secretary—Indian Affairs.

[FR Doc. 00-26882 Filed 10-18-00; 8:45 am]

BILLING CODE 4310-02-P